DEPARTMENT OF COMMERCE

International Trade Administration

[A-580-867]

Large Power Transformers From the Republic of Korea: Amended Final Results of Antidumping Duty Administrative Review; 2019-2020

AGENCY: Enforcement and Compliance, International Trade Administration, Department of Commerce.

SUMMARY: The Department of Commerce (Commerce) is amending its final results in the administrative review of the antidumping duty order on large power transformers (LPTs) from the Republic of Korea (Korea) for the period August 1, 2019, through July 31, 2020, to correct a ministerial error.

DATES: Applicable March 30, 2022.

FOR FURTHER INFORMATION CONTACT: John Drury, AD/CVD Operations, Office VI, Enforcement and Compliance, International Trade Administration, U.S. Department of Commerce, 1401 Constitution Avenue NW, Washington, DC 20230; telephone: (202) 482-0195.

SUPPLEMENTARY INFORMATION:

Background

On March 8, 2022, Commerce published the final results of the 2019-2020 administrative review of LPTs from Korea.¹ On March 7, 2022, Commerce received a timely filed allegation from Hitachi Energy USA, Inc. and Prolec-GE Waukesha, Inc. (the petitioners) that Commerce made a ministerial error in the Final Results of the above-referenced administrative review with regard to its calculation of the final dumping margin for respondent Hyosung Heavy Industries Corporation, Inc. (Hyosung).² Based on our analysis of the allegation, we determine that we made a ministerial error and we made changes to the calculation of the weighted-average dumping margin for Hyosung and for the non-individually examined respondents.³

¹ See Large Power Transformers from the Republic of Korea: Final Results of Antidumping Duty Administrative Review and Final Determination of No Shipments; 2019-2020, 87 FR 12932 (March 8, 2022) (Final Results), and accompanying Issues and Decision Memorandum.

² See Petitioners' Letter, “Large Power Transformers from Korea—Petitioners' Allegation of a Ministerial Error in the Final Results,” dated March 7, 2022 (Ministerial Allegation Letter).

³ See Memorandum “Ministerial Error Memorandum for the Amended Final Results of the 2019-2020 Administrative Review of the Antidumping Duty Order on Large Power Transformers from the Republic of Korea,” dated concurrently with this notice (Ministerial Error Memorandum).

Scope of the Order

The scope of this order covers large liquid dielectric power transformers (LPTs) having a top power handling capacity greater than or equal to 60,000 kilovolt amperes (60 megavolt amperes), whether assembled or unassembled, complete or incomplete.

Incomplete LPTs are subassemblies consisting of the active part and any other parts attached to, imported with or invoiced with the active parts of LPTs. The “active part” of the transformer consists of one or more of the following when attached to or otherwise assembled with one another: The steel core or shell, the windings, electrical insulation between the windings, the mechanical frame for an LPT.

The product definition encompasses all such LPTs regardless of name designation, including but not limited to step-up transformers, step-down transformers, autotransformers, interconnection transformers, voltage regulator transformers, rectifier transformers, and power rectifier transformers.

The LPTs subject to this order are currently classifiable under subheadings 8504.23.0040, 8504.23.0080 and 8504.90.9540 of the Harmonized Tariff Schedule of the United States (HTSUS). Although the HTSUS subheadings are provided for convenience and customs purposes, the written description of the scope of this order is dispositive.

Ministerial Error

Section 751(h) of the Tariff Act of 1930, as amended (the Act), and 19 CFR 351.224(f) define a “ministerial error” as an error “in addition, subtraction, or other arithmetic function, clerical error resulting from inaccurate copying, duplication, or the like, and any other similar type of unintentional error which the Secretary considers ministerial.”

The petitioners argue that Commerce failed to fully implement certain changes that the record indicates, and Commerce recognized, were necessary for one U.S. sale, to account for the proper reporting of service-related revenues. We agree with the petitioners and, therefore, we have corrected the error.⁴ As a result, the weighted-average dumping margin for Hyosung changes from 7.92 percent to 9.09 percent. Furthermore, the rate for the respondents not selected for individual examination, which is based on the margin calculated for Hyosung, also changes from 7.92 percent to 9.09 percent.⁵

⁴ See Ministerial Error Memorandum at 3.

⁵ The rate applied to the non-selected companies is based on Hyosung's dumping margin for the period August 1, 2019, through July 31, 2020, as no other company was selected for review. See Final Results at 12932.

Amended Final Results of Review

Commerce determines that the following amended weighted-average dumping margins exist for the period August 1, 2019, through July 31, 2020:

Producer/exporter | Estimated weighted- average dumping margin (percent)
Hyosung Heavy Industries Corporation | 9.09
Hyundai Electric & Energy Systems Co., Ltd | 9.09
Iljin Electric Co., Ltd | 9.09
Iljin | 9.09

Disclosure

We will disclose the calculation memorandum used in our analysis to parties to this segment of the proceeding within five days of the date of the publication of these amended final results pursuant to 19 CFR 351.224(b).

Assessment Rate

Pursuant to section 751(a)(2)(C) of the Act and 19 CFR 351.212(b)(1), Commerce has determined, and U.S. Customs and Border Protection (CBP) shall assess, antidumping duties on all appropriate entries of subject merchandise in accordance with these amended final results of the administrative review.

In accordance with 19 CFR 351.212(b)(1), Hyosung reported the entered value of its U.S. sales such that we calculated importer-specific ad valorem antidumping duties assessment rates based on the ratio of the total amount of dumping calculated for the examined sales for each importer to the total entered value of the sales for each importer. Where an importer-specific antidumping duties assessment rate is zero or de minimis within the meaning of 19 CFR 351.106(c)(1), Commerce will instruct CBP to liquidate the appropriate entries without regard to antidumping duties. Commerce's “automatic assessment” will apply to entries of subject merchandise during the period of review produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.⁶

⁶ See Antidumping and Countervailing Duty Proceedings: Assessment of Antidumping Duties, 68 FR 23954 (May 6, 2003).

For the companies which were not selected for individual examination, we will instruct CBP to assess antidumping duties at an ad valorem assessment rate equal to the weighted-average dumping margins determined in these amended final results.

The amended final results of this review shall be the basis for the assessment of antidumping duties on entries of merchandise covered by the amended final results of this review and for future deposits of estimated duties, where applicable.⁷ Consistent with its recent notice,⁸ Commerce intends to issue appropriate assessment instructions directly to CBP no earlier than 35 days after the date of publication of the amended final results of this review in the Federal Register. If a timely summons is filed at the U.S. Court of International Trade, the assessment instructions will direct CBP not to liquidate relevant entries until the time for parties to file a request for a statutory injunction has expired (i.e., within 90 days of publication).

⁷ See section 751(a)(2)(C) of the Act.

⁸ See Notice of Discontinuation of Policy to Issue Liquidation Instructions After 15 Days in Applicable Antidumping and Countervailing Duty Administrative Proceedings, 86 FR 3995 (January 15, 2021).

Cash Deposit Requirements

The following cash deposit requirements will be effective retroactively for all shipments of subject merchandise that entered, or were withdrawn from warehouse, for consumption on or after March 8, 2022, the date of publication of the Final Results of this administrative review, as provided by section 751(a)(2)(C) of the Act: (1) The cash deposit rate for respondents noted above will be equal to the weighted-average dumping margins established in the amended final results of this administrative review; (2) for merchandise exported by producers or exporters not covered in this administrative review but covered in a prior segment of the proceeding, the cash deposit rate will continue to be the company specific rate published for the most recently completed segment of this proceeding; (3) if the exporter is not a firm covered in this review, a prior review, or the original investigation, but the producer is, the cash deposit rate will be the rate established for the most recently completed segment of this proceeding for the producer of the subject merchandise; and (4) the cash deposit rate for all other producers or exporters will continue to be 22.00 percent, the all-others rate established in the less-than-fair-value investigation.⁹ These cash deposit requirements, when imposed, shall remain in effect until further notice.

⁹ See Large Power Transformers from the Republic of Korea: Antidumping Duty Order, 77 FR 53177 (August 31, 2012).

Notification to Importers Regarding the Reimbursement of Duties

This notice also serves as a final reminder to importers of their responsibility under 19 CFR 351.402(f) to file a certificate regarding the reimbursement of antidumping and/or countervailing duties prior to liquidation of the relevant entries during the period of review. Failure to comply with this requirement could result in Commerce's presumption that reimbursement of antidumping and/or countervailing duties did occur and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.213(h) and 19 CFR 351.221(b)(5).

Dated: March 23, 2022.
Lisa W. Wang,
Assistant Secretary for Enforcement and Compliance.

[FR Doc. 2022-06733 Filed 3-29-22; 8:45 am]

BILLING CODE 3510-DS-P